DEPARTMENT OF HOMELAND SECURITY

Coast Guard

33 CFR Part 165

[COTP Charleston 06-003]

RIN 1625-AA00

Safety Zone; Cooper River, Hog Island Channel, Grace Memorial and Silas Pearman Bridges, Charleston, SC

AGENCY: Coast Guard, DHS.

ACTION: Temporary final rule.

SUMMARY: The Coast Guard is establishing a temporary safety zone on the navigable waters of Hog Island Reach on the Cooper River, for the demolition and recovery operations of the Grace Memorial and Silas Pearman Bridges. This rule prohibits entry, anchoring, mooring, or transiting within the temporary safety zone without the permission of the Captain of the Port Charleston or his designated representative. This regulation is necessary to protect life and property on the navigable waters of the Cooper River from the danger associated with the demolition and recovery operations of these bridges.

DATES: The rule is effective from 7:30 a.m. on January 15, 2006 through 8:01 a.m. on December 31, 2006.

ADDRESSES: Documents indicated in this preamble as being available in the docket are part of docket [COTP Charleston 06-003] and are available for inspection or copying at Coast Guard Sector Charleston (WWM), 196 Tradd Street, Charleston, South Carolina 29401 between 7:30 a.m. and 4 p.m., Monday through Friday, except Federal holidays.

FOR FURTHER INFORMATION CONTACT: Chief Warrant Officer James J. McHugh, Sector Charleston office of Waterways Management, at (843) 724-7647.

SUPPLEMENTARY INFORMATION:

Regulatory Information

We did not publish a notice of proposed rulemaking (NPRM) for this regulation. Under 5 U.S.C. 553(b)(B), the Coast Guard finds that good cause exists for not publishing an NPRM. Publishing an NPRM, which would incorporate a comment period before a final rule could be issued and delay the effective date, would be contrary to the public interest because immediate action is needed to protect the public and waters of the United States.

For the same reason, under 5 U.S.C. 553(d)(3), the Coast Guard finds that good cause exists for making this rule effective less than 30 days after publication in the Federal Register. A Coast Guard patrol vessel will be on scene for the duration of the effective period to notify mariners of the restriction.

Background and Purpose

The demolition and removal of the Grace Memorial and Silas Pearman Bridges is an on-going operation that will continue throughout the year. This operation will require several explosive detonations to remove the steel trusses and supporting columns for the two bridges. These detonations present a direct danger to mariners transiting in the vicinity of the bridges on Hog Island Reach on the Cooper River. At this time, the detonation schedule can not be exactly determined, however Coast Guard Sector Charleston expects to receive two weeks notice, at maximum, from the contractor before any detonation will occur.

The purpose of this temporary safety zone is to protect mariners from the demolition and recovery operations. While the effective period for this zone extends from January 15 to December 31, 2006, the zone will only be enforced immediately preceding a detonation, and for a short duration following a detonation to allow for the safe removal of debris. Upon receiving notice from the contractor that a detonation will occur, Coast Guard Sector Charleston will notify the public of the date and time the safety zone will be enforced and when enforcement will stop. While the safety zone is being enforced, mariners may request permission to transit through the zone by contacting the U.S. Coast Guard via VHF-FM channel 16 or by phone at (843) 724-7616. Mariners and the general public may also contact the Coast Guard to request information on the status of the safety zone, such as, if it is currently enforced, or when the next enforcement period will be.

Discussion of Rule

This rule creates a temporary safety zone around the Grace Memorial and Silas Pearman Bridges on Hog Island Reach, and includes all waters within the area bounded by the following coordinates: 32°48.566′ N, 079°55.211′ W to 32°48.389′ N, 079°54.256′ W to 32°47.824′ N, 079°54.401′ W thence to 32°47.994′ N, 079°55.359′ W. This zone will only be enforced immediately preceding a detonation, and for a short time following a detonation while debris removal is conducted. These enforcement periods will be announced by Coast Guard Sector Charleston through broadcast notice to mariners, marine safety information bulletins, and through local media press releases. While the zone is enforced, persons and vessels may not enter or remain in the zone without the prior permission of the Captain of the Port Charleston or designated representative.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS). Because marine traffic should be able to safely transit around the safety zone and may be allowed to enter the zone with the permission of the COTP or his representative.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. The owners and operators of vessels who wish to navigate through Hog Island Reach may be impacted by this rule. This impact will not be significant because the safety zone will only be enforced for a short duration before and after detonations on the bridge, the impact on routine navigation is expected to be minimal, commercial marine traffic will still be able to safely transit around the temporary safety zone by using the Town Creek Channel, and vessels may be allowed to enter the zone after obtaining the permission of the COTP or their designated representative.

Assistance for Small Entities

Under section 213(a) of the Small Business Regulatory Enforcement Fairness Act of 1996 (Pub. L. 104-121), we offer to assist small entities in understanding the rule so that they could better evaluate its effects on them and participate in the rulemaking process. Small entities may contact the person listed under FOR FURTHER INFORMATION CONTACT for assistance in understanding and participating in this rulemaking.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA)(42 U.S.C. 4321-4370f), and have concluded that there are no factors in this case that would limit the use of a categorical exclusion under section 2.B.2 of the Instruction. Therefore, this rule is categorically excluded, under figure 2-1, paragraph (34) (g), of the Instruction, from further environmental documentation. A final “Environmental Analysis Check List” and a final “Categorical Exclusion Determination” will be available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C 1226, 1231; 46 U.S.C. Chapters 701; 50 U.S.C. 191, 195; 33 CFR 1.05-1(g), 6.04-1, 6.04-6, and 160.5; Pub. L. 107-295, 116 Stat. 2064; Department of Homeland Security Delegation No. 0170.1.

2. A new temporary § 165.T07-003 is added to read as follows:

§ 165.T07-003 Safety Zone, Town Creek Channel, Grace Memorial and Silas Pearman Bridge, Charleston, SC.

(a) Regulated area. The Coast Guard is establishing a temporary safety zone around the Grace Memorial and Silas Pearman Bridges on the Cooper River on Hog Island Reach, in the City of Charleston and Mt. Pleasant, SC. The safety zone includes all waters within the area bounded by an imaginary line connecting the following coordinates: 32°48.566′ N, 079°55.211′ W to 32°48.389′ N, 079°54.256′ W to 32°47.824′ N, 079°54.401′ W thence to 32°47.994′ N, 079°55.359′ W.

(b) Definitions. The following definitions apply to this section:

Designated representative means Coast Guard Patrol Commanders including Coast Guard coxswains, petty officers and other officers operating Coast Guard vessels, and federal, state, and local officers designated by or assisting the Captain of the Port (COTP) Charleston in the enforcement of the regulated area.

(c) Regulations. In accordance with the general regulations in § 165.23 of this part, entering, anchoring, mooring or transiting in the Regulated Area is prohibited, except as provided for herein, or unless authorized by the Coast Guard Captain of the Port Charleston, South Carolina, or his designated representative. Persons and vessels may request permission to enter the safety zone on VHF-FM channel 16 or via phone at (843) 724-7616.

(d) Enforcement Period. This regulation will only be enforced at times immediately preceding an explosive detonation on the Grace Memorial or Silas Pearman Bridges, and for a short period after the detonation during debris removal operations. Coast Guard Sector Charleston will announce the start date and expected duration of each enforcement period through broadcast notice to mariners, marine safety information bulletins, through local media press releases and on-scene patrol assets. Additionally, anyone wishing to inquire as to the status of the safety zone may contact Coast Guard Sector Charleston at (843) 724-7616.

(e) Dates. This rule is effective from 7:30 a.m. EDT on January 15, 2006 until 8:01 a.m. EDT on December 31, 2006.

Dated: January 6, 2006.
John E. Cameron,
Captain, U.S. Coast Guard, Captain of the Port Charleston, SC.

[FR Doc. 06-499 Filed 1-18-06; 8:45 am]

BILLING CODE 4910-15-P